DEPARTMENT OF THE INTERIOR

Fish and Wildlife Service

Notice of Availability of Draft Comprehensive Conservation Plan for the 39 North Dakota Limited-Interest National Wildlife Refuges

AGENCY: Fish and Wildlife Service, Interior.

ACTION: Notice of availability.

SUMMARY: The U.S. Fish and Wildlife Service (Service) announces that a combined Draft Comprehensive Conservation Plan (CCP) and Environmental Assessment (EA) for the 39 North Dakota Limited-Interest National Wildlife Refuges (Refuges) is available. This CCP, prepared pursuant to the National Wildlife Refuge System Improvement Act of 1997 (Improvement Act) and the National Environmental Policy Act of 1969, describes how the Service intends to manage these Limited-Interest Refuges for the next 15 years.

DATES: Written comments must be received at the postal or electronic address listed below on or before December 5, 2005.

ADDRESSES: Please provide written comments to Laura King, Planning Team Leader, Division of Refuge Planning, Branch of Comprehensive Conservation Planning, c/o Tewaukon National Wildlife Refuge, 9754 143½ Avenue, SE., Cayuga, ND 58013, or electronically to laura_king@fws.gov. A copy of the Draft CCP and EA may be obtained by writing to Linda Kelly, U.S. Fish and Wildlife Service, Division of Refuge Planning, Box 25486, Denver, Colorado 80225-0486; or downloaded from http://mountain-prairie.fws.gov/planning.

FOR FURTHER INFORMATION CONTACT: Laura King, Planning Team Leader, U.S. Fish and Wildlife Service, c/o Tewaukon National Wildlife Refuge, 9754 143½ Avenue, SE., Cayuga, ND 58013; telephone: 701-724-3598, extension 14; fax: 701-724-3683; or e-mail: laura_king@fws.gov.

SUPPLEMENTARY INFORMATION: The Refuges encompass 47,296 limited-interest acres within the boundaries of 39 individual National Wildlife Refuges (NWR). These refuges include: Appert Lake; Ardoch; Bone Hill; Brumba; Buffalo Lake; Camp Lake; Canfield Lake; Cottonwood; Dakota Lake; Half Way Lake; Hiddenwood; Hobart Lake; Hutchinson Lake; Johnson Lake; Lake George; Lake Otis; Lake Patricia; Lambs Lake; Little Goose; Lords Lake; Lost Lake; Maple River; Pleasant Lake; Pretty Rock; Rabb Lake; Rock Lake; Rose Lake; School Section Lake; Sheyenne Lake; Sibley Lake; Silver Lake; Snyder Lake; Springwater; Stoney Slough; Sunburst Lake; Tomahawk; Willow Lake; Wintering River; and Wood Lake.

These Refuges range in size from 160 acres (Half Way Lake NWR) to 5,506 acres (Rock Lake NWR). The approved acquisition boundaries for these Refuges, established in the 1930s and 1940s under the authority of Executive Orders and other conservation laws, total 54,140 acres. Six different North Dakota Managing Stations are responsible for these Refuges, including Arrowwood NWR Complex, Audubon NWR Complex District, Devils Lake WMD, J. Clark Salyer NWR Complex, Kulm WMD, and Long Lake NWR Complex. Most of these Refuges, except for two, Lake Patricia NWR and Pretty Rock NWR, are located east of the Missouri River. All Refuges have an overriding purpose of providing habitat for migratory birds, particularly waterfowl. No staff or funding is dedicated to these Refuges. Historically, management has been incidental to the Managing Station's other funded programs.

Limited-Interest Refuges began in the 1930s, in response to the crises of that time including drought, depression, and declining waterfowl populations. Beginning in 1935, dozens of refuge and/or flowage easements were signed by the State and private landowners. These Limited-Interest Refuges, most perpetual, were established for the purposes of (1) water conservation, (2) drought relief, and (3) migratory bird and wildlife conservation purposes.

Funds poured into the surrounding communities as people went back to work, through the Work Progress/Project Administration (WPA) and Civilian Conservation Corps (CCC), building the structures needed to impound and control water levels. This reliable water source was not only critical to wildlife, but to the livelihood of the landowners and their farming operations.

Although most were perpetually protected, a new status was given to these lands in the late 1930s and 1940s. Lands in close proximity were combined, establishing an approved acquisition boundary, and designated as Migratory Bird Sanctuaries (later changed to National Wildlife Refuge) under the authorities of Executive Orders and various conservation laws. To this day, 93 percent of the lands covered by these Limited-Interest Refuges remain in private ownership, while 99 percent of the lands within the approved acquisition boundary are privately owned. This fact makes these Refuges unique among the more than 545 NWRs.

The habitat and value of these Refuges vary, but most have a water feature, such as a lake, impoundment, or river, associated with the Refuge, over which the Service holds a senior water right. Many have been developed, some extensively, and most are used for farming and/or recreation.

Many of these Limited-Interest Refuges have played a vital role in the recovery and protection of water resources and the waterfowl and other wildlife that depend on these areas. However, each Refuge needed to be re-evaluated to determine which can truly function as a NWR, as prescribed in the Improvement Act.

One of the first steps in this planning process was defining which rights the Service acquired through these agreements. To accomplish this, each agreement and dozens of historical records, including correspondence, news releases, and published reports, were reviewed by the planning team. From this documentation, it was determined that the Service has the right to regulate hunting and trapping, and the uses and management of the main body of water over which the Service has a water right. These uses would include, but are not limited to: fishing, boating, swimming, and water skiing. The Service will not regulate access to these private lands, upland development, and uses of naturally occurring wetlands. Even though these areas are valuable for wildlife, there is no evidence the Service intended to regulate these uses. Many of these Refuges had extensive developments on them before they were established. Again, these Limited-Interest Refuges were established for economic and preservation reasons.

No approved guidelines have ever been developed for managing these Refuges. This combined with the limited management options, as described in the previous paragraph, led the Service to develop a more programmatic plan, rather than a plan for each Refuge. These factors also resulted in the evaluation of only two alternatives, the No Action (Current Management) and the Proposed Action (Enhance the Program). Alternative A, the No Action alternative, proposes continuation of current management programs. Alternative B (Proposed Action) emphasizes replacement or maintenance of water management structures, within the guidelines of the agreement and water rights. It also emphasizes developing a strong partnership with the landowners, through the development of a structured program that would ensure an open dialogue necessary to address landowner issues, while providing them information on the program. In particular, they would receive updated information on Service programs that may provide them additional compensation for added habitat protections. Landowners would be given full control over whether they choose to participate in these programs.

Landowners have a right to refuse access to the general public. Although there are a few Refuges where Service-managed visitor services programs occur, most of these Refuges have remained closed for 70 years. Under this alternative, current visitor services programs would continue, if they remain compatible and there is a continued demand. The Service will also work with the State and interested landowners to develop additional recreational opportunities on the remaining Refuges. These opportunities may include wildlife observation and photography, environmental education and interpretation, hunting, and fishing. Again, the landowners would have the right to refuse access; however, if a program is acceptable to the landowners and found compatible, it must be made available to the general public. There may be limitations placed on this use, such as limited seasons and number of users, but no person may be denied the opportunity to participate. Although these are private lands, they are NWRs and subject to the same rules contained in the Code of Federal Regulations for visitor services programs.

A significant part of this process was determining the value of each Refuge to wildlife and its ability to function as a NWR as defined in the Improvement Act. From this process, six Refuges are being proposed for consideration for divestiture including: Bone Hill, Camp Lake, Cottonwood Lake, Lake Patricia, Sheyenne Lake, and School Section Lake. Factors considered included the level of development for recreation and commercial uses and resulting loss of biodiversity and land ownership patterns. It was determined that these Refuges no longer fulfill the purpose for which they were established. For example, Camp Lake currently has 238 cabins surrounding the lake, while Bone Hill has extensive farming and commercial uses occurring, including an elk farm and fertilizer plant. Cottonwood Lake has also seen extensive development and significant loss of biodiversity. Lake Patricia, Sheyenne Lake, and School Section Lake were once covered by easements signed by the State. These easements were unique in that they were revocable. The State has since exercised this option and has assumed management of these lands and waters. In some cases, the Service only controls parts of the main body of water. All surrounding lands are managed by the State for wildlife habitat. The State would assume management of these waters as well, should the Service divest these Refuges. The actual divestiture process for all six Refuges would be carried out once this plan is approved.

The Proposed Action for the remaining 33 Refuges would be addressed as a program. The six Managing Stations would evaluate and prioritize their Refuges, using primarily Habitat and Population Evaluation Team data resources, for added habitat protections. Highest priority would be given to those Refuges that contain native prairie habitat. Landowners would be provided informational newsletters about compensated habitat protection programs available. Participation in these programs would be voluntary and future opportunities would be provided at least annually thereafter. The Service would also cooperate with other conservation partners to develop programs that would meet common goals that support and enhance this program.

The Proposed Action was selected because it best meets the purposes and goals of these Refuges, as well as the goals of the National Wildlife Refuge System. It also ensures the landowners' rights are protected while giving them opportunities for added compensation. The Proposed Action will benefit federally listed species, shore birds, migrating and nesting waterfowl, and neotropical migrants, along with improving water habitat management and preservation. Compatible recreational opportunities may be provided if access is granted by willing landowners, and the resources are available to manage that use. This will result in widespread educational opportunities to teach the public, students, and future partners about the values, benefits, and goals of the National Wildlife Refuge System in North Dakota and the Nation.

Dated: June 22, 2005.
Mary G. Henry,
Acting Regional Director, Region 6, Denver, CO.

[FR Doc. 05-19937 Filed 10-4-05; 8:45 am]

BILLING CODE 4310-55-P